DEPARTMENT OF DEFENSE

Department of Army Corps of Engineers

Intent To Prepare an Environmental Restoration Report and Draft Environmental Impact Statement (DEIS) for the Dents Run Acid Mine Drainage Restoration Project in Elk County, Pennsylvania

AGENCY: U.S. Army Corps of Engineers, DOD.

ACTION: Notice of Intent.

SUMMARY: In accordance with the National Environmental Policy Act (NEPA), the Baltimore District, U.S. Army Corps of Engineers, has initiated the Dents Run Acid Mine Drainage Feasibility Study in Elk County, Pennsylvania. The study and project construction will be implemented through the Corps' Section 206 Aquatic Ecosystem Restoration Authority of the Continuing Authorities Program. The goal is to provide environmental habitat and water quality benefits for brook trout, other aquatic life, and elk. This study and DEIS will include documentation of baseline conditions; an evaluation of the no action alternative, and active and passive treatment alternative; and an evaluation of the proposed action and associated impacts. The degree of restoration will be determined through an assessment of improvement to pH and habitat diversity; degree of adverse and beneficial impacts to the cultural, environmental, and socio-economic surroundings; and a cost-effectiveness and incremental cost analysis.

FOR FURTHER INFORMATION CONTACT: Questions about the proposed action and DEIS can be address to Mr. Greg Nielson, Project Manager, Baltimore District, U.S. Army Corps of Engineers, ATTN: CEN AB-PP-C, P.O. Box 1715, Baltimore, Maryland 21203-1715, telephone (410) 962-8111. E-mail address: gregory.j.nielson@usace.army.mil

SUPPLEMENTARY INFORMATION: 1. The study area is the Dents Run watershed, located in Elk County, Pennsylvania. Dents Run is a tributary to the Bennetts Branch of the Sinnemahoning Creek. The Dents Run Preliminary Restoration Plan (PRP) was completed by the Corps in March 1999 and determined that there was both Federal and non-Federal interest in pursuing a feasibility study and implementation of an environmental restoration project to abate acid mine drainage. Previous mining endeavors (both deep and strip mines) as early as the late 1800's have rendered the streams in the area highly acidic, laden with toxic metals (iron, manganese, and aluminum), and created substantial “dead zones” within the watershed. Aquatic life is nearly non-existent. The PRP identified eight site, primarily along Porcupine Run (a tributary to Dents Run) for possible abatement that would restore over 5 miles of trout and other aquatic species habitat and reclaim over 300 acres of scarred mine lands within the Dents Run Watershed.

2. In June 1999, the Corps began this environmental restoration feasibility study to abate acid mine drainage in cooperation with the Pennsylvania Department of Environmental Protection—Bureau of Abandoned Mine Reclamation and Bureau of Forestry, Pennsylvania Game Commission, U.S. Fish and Wildlife Service, Bennetts Branch Watershed Association, and other agencies and organizations. Preliminary alternatives have been identified and are being considered in consultation with all interested agencies and stakeholders. To date, the alternatives analysis is not complete and a recommended plan has not been finalized.

3. Environmental issues will focus on, but are not limited to, effects on air quality, wetlands, water quality; fish and wildlife resources (including threatened and endangered species); hazardous, toxic, and radioactive waste; aesthetic resources; and cultural resources (including archaeological sites and historical architecture). Environmental benefits, costs, and impacts will be examined in detail to determine what level of restoration is needed and justified. The team will evaluate the environmental impacts (both adverse and beneficial) of the proposed actions.

4. The decision to implement these actions will be based on an evaluation of the probable impact of the proposed activities on the public interest, and will also be based on the national concern for protection and utilization of important resources. The benefit that reasonably may be expected to accrue from the proposal will be balanced against the project's reasonably foreseeable costs. The Baltimore District is preparing a DEIS that will describe the impacts of the proposed project on environmental and cultural resources in the study area, and the overall public interest. The DEIS will be in accordance with NEPA and will document all factors that may be relevant to the proposal, including the cumulative effects thereof. If applicable, the DEIS will also apply guidelines issued by the Environmental Protection Agency, under the authority of Section 404(b)(1) of the Clean Water Act of 1977 (Public Law 95-217).

5. The public involvement program will include meetings and other coordination with interested private individuals and organizations, as well as with concerned Federal, state and local agencies as part of the scoping process. Additional information inviting the public to participate will be provided through print media and mailings.

6. Other participants that will be involved in the study and DEIS process in addition to the Corps, Bennetts Branch Watershed Association, and the Pennsylvania Department of Environmental Protection include the following: The U.S. Environmental Protection Agency, U.S. Fish and Wildlife Service, U.S. Forest Service, U.S. Geological Survey, Natural Resource Conservation Service, U.S. National Park Service, Pennsylvania Fish and Boat Commission, Pennsylvania Audubon Society, and Canaan Valley Institute. The Baltimore District invites potentially affected Federal, state, and local agencies, and other organizations and entities to participate in this study.

8. The Dents Run Environmental Restoration Report and DEIS are tentatively scheduled for public review in December 2000.

Robert W. Lindner,
Chief, Planning Division.

[FR Doc. 00-23756 Filed 9-14-00; 8:45 am]

BILLING CODE 3710-41-M